DEPARTMENT OF COMMERCE

National Oceanic and Atmospheric Administration

Science Advisory Board

AGENCY: National Oceanic and Atmospheric Administration (NOAA), Department of Commerce (DOC).

ACTION: Notice of public meeting cancellation.

SUMMARY: This is to notify the public that the meeting of the Science Advisory Board (SAB)is canceled in its entirety.

DATES: September 11, 2024 from 3:00 p.m.-5:00 p.m. ET.

FOR FURTHER INFORMATION CONTACT: Casey Stewart, Executive Director, SSMC3, Room 11360, 1315 East-West Hwy., Silver Spring, MD 20910; Phone Number: 240-381-0833; Email: noaa.scienceadvisoryboard@noaa.gov; or visit the SAB website at https://sab.noaa.gov/current-meetings/.

SUPPLEMENTARY INFORMATION: The meeting was announced in the Federal Register on August 15, 2024, Volume 89, Number 158, page 66355.

David Holst,
Chief Financial Officer/Administrative Officer, Office of Oceanic and Atmospheric Research, National Oceanic and Atmospheric Administration.

[FR Doc. 2024-22460 Filed 10-2-24; 8:45 am]

BILLING CODE 3510-KD-P